DEPARTMENT OF COMMERCE

International Trade Administration

Notice of Amendments to the Trade Mission to the Caribbean Region in Conjunction With the Trade Americas-Business Opportunities in the Caribbean Region Conference

AGENCY: International Trade Administration, Department of Commerce.

ACTION: Notice.

SUMMARY: The United States Department of Commerce, International Trade Administration, is amending the Notice published December 16, 2019, regarding the Trade Mission to the Caribbean Region in conjunction with the Trade Americas—Business Opportunities in the Caribbean Region Conference, scheduled from May 31-June 5, 2020, to amend the dates and deadline for submitting applications for the event.

SUPPLEMENTARY INFORMATION: Amendments to Revise the Regional Conference Dates, and Deadline for Submitting Applications.

Background

The dates of ITA's planned Trade Mission to the Caribbean Region and Conference have been modified from May 31-June 5, 2020, to November 15-20, 2020. The new deadline for applications has been extended to May 29, 2020. Applications may be accepted after that date if space remains and scheduling constraints permit. Interested U.S. companies and trade associations/organizations that have not already submitted an application are encouraged to do so. The proposed schedule is updated as follows:

Proposed Timetable
Saturday, November 14, 2020 | Travel Day/Arrival in Barbados. Optional Local Tour/Activities.
Sunday, November 15, 2020 | Barbados. Afternoon: Registration, Briefing and U.S. Embassy Officer Consultations. Evening: Networking Reception.
Monday, November 16, 2020 | Barbados. Morning: Registration and Trade Americas—U.S.-Caribbean Business Conference. Afternoon: U.S. Embassy Officer Consultations. Evening: Networking Reception.
Optional
Tuesday, November 17, 2020 | Barbados/Eastern Caribbean Region Business-to-Business Meetings or Travel day.
November 18-20, 2020 | Travel day or Business-to-Business Meetings in: Option (A) Dominican Republic. Option (B) Guyana. Option (C) Haiti. Option (D) Jamaica. Option (E) Suriname. Option (F) The Bahamas. Option (H) Trinidad & Tobago.

The U.S. Department of Commerce will review applications and make selection decisions on a rolling basis in accordance with the Notice published at 84 FR 68393 (December 16, 2019). The applicants selected will be notified as soon as possible.

Contacts

U.S. Trade Americas Team Contact Information:

Delia Valdivia, Senior International Trade Specialist, U.S. Commercial Service—Los Angeles (West), CA, delia.valdivia@trade.gov, Tel: 310-597-8218

Diego Gattesco, Director, U.S. Commercial Service—Wheeling, WV, Diego.Gattesco@trade.gov, Tel: 304-243-5493

Gemal Brangman,
Senior Advisor, Trade Missions, ITA Events Management Task Force.

[FR Doc. 2020-10762 Filed 5-18-20; 8:45 am]

BILLING CODE 3510-DR-P